DEPARTMENT OF ENERGY

Energy Efficiency and Renewable Energy Advisory Committee (ERAC)

AGENCY: Department of Energy, Office of Energy Efficiency and Renewable Energy.

ACTION: Notice of open teleconference/Webinar.

SUMMARY: The purpose of ERAC is to provide advice and recommendations to the Secretary of Energy on the research, development, demonstration and deployment priorities within the field of energy efficiency and renewable energy. The Federal Advisory Committee Act, Public Law 92-463, 86 Stat. 770, requires that agencies publish notice of an advisory committee meeting in the Federal Register.

DATES: Thursday, January 12, 2012, 11 a.m.-1 p.m. (EST). To register for the webinar and receive the call-in information, please visit the Committee's Web site at: www.erac.energy.gov. You may also contact the Committee's Designated Federal Officer at the address or phone number below.

FOR FURTHER INFORMATION CONTACT: JoAnn Milliken, ERAC Designated Federal Officer, Senior Advisor, U.S. Department of Energy, Office of Energy Efficiency and Renewable Energy, 1000 Independence Ave. SW., Washington, DC, 20585. Phone number (202) 586-2480 and email: erac@ee.doe.gov.

SUPPLEMENTARY INFORMATION: Purpose of Meeting: To provide advice and recommendations to the Secretary of Energy on the research, development, demonstration and deployment priorities within the field of energy efficiency and renewable energy.

Tentative Agenda: (Subject to change; updates will be posted on: www.erac.energy.gov):

• Updates from the Appliance Standards Subcommittee regarding efforts to reach consensus on a proposed rule for regulating the energy efficiency of distribution transformers, as authorized by the Energy Policy Conservation Act (EPCA) of 1975, as amended, 42 U.S.C. 6313(a)(6)(C) and 6317(a).

Public Participation: Members of the public are welcome to observe the business of the meeting and make oral statements during the specified period for public comment. To attend the meeting and/or to make oral statements regarding any of the items on the agenda, email: erac@ee.doe.gov. In the email, please indicate your name, organization (if appropriate), citizenship, and contact information.

Time allotted per speaker will depend on the number of individuals who wish to speak but will not exceed five minutes. Reasonable provision will be made to include the scheduled oral statements on the agenda. The chair of the committee will make every effort to hear the views of all interested parties and to facilitate the orderly conduct of business.

Participation in the meeting is not a prerequisite for submission of written comments. ERAC invites written comments from all interested parties. If you would like to file a written statement with the committee, you may do so either by submitting a hard or electronic copy before or after the meeting. Electronic copy of written statements should be emailed to erac@ee.doe.gov.

Minutes: The minutes of the meeting will be available for public review at www.erac.energy.gov.

Issued in Washington, DC, on December 19, 2011.
LaTanya R. Butler,
Acting Deputy Committee Management Officer.

[FR Doc. 2011-32912 Filed 12-22-11; 8:45 am]

BILLING CODE 6450-01-P